DEPARTMENT OF COMMERCE

International Trade Administration

[C-580-851]

Amendment to Countervailing Duty Order on Dynamic Random Access Memory Semiconductors From the Republic of Korea

AGENCY: Import Administration, International Trade Administration, Department of Commerce.

EFFECTIVE DATE: March 8, 2006.

FOR FURTHER INFORMATION CONTACT: Steve Williams, AD/CVD Operations, Office 1, Import Administration, U.S. Department of Commerce, Room 3069, 14th Street and Constitution Avenue, NW., Washington, DC 20230; telephone: (202) 482-4619; or Matthew Walden, Office of the Chief Counsel for Import Administration, Office of the General Counsel, U.S. Department of Commerce, 14th Street and Constitution Avenue, NW., Washington, DC 20230; telephone: (202) 482-2963.

SUPPLEMENTARY INFORMATION:

Background

In August 2003, the International Trade Commission (“Commission”) determined that an industry in the United States was materially injured by reason of subsidized imports of dynamic random access memory semiconductors (“DRAMS”) and DRAM modules from the Republic of Korea (“Korea”). DRAMS and DRAM Modules from Korea, Inv. No. 701-TA-431 (Final), USITC Pub. 3616 (Aug. 2003) (“Final Injury Determination”). On August 11, 2003, the Department of Commerce (“Department”) published a countervailing duty order on DRAMS from Korea. See Notice of Countervailing Duty Order: Dynamic Random Access Memory Semiconductors from the Republic of Korea, 68 FR 47546 (Aug. 11, 2003) (“CVD Order”).

The Government of Korea subsequently requested dispute resolution at the World Trade Organization (“WTO”) to consider, inter alia, its claims that the Final Injury Determination was inconsistent with the WTO Agreement on Subsidies and Countervailing Measures (“SCM Agreement”). The matter was called “United States - Countervailing Duty Investigation on Dynamic Random Access Memory Semiconductors (DRAMS) From Korea,” WT/DS296, and was reviewed by a WTO panel. In its final report, the panel found, inter alia, that one aspect of the Commission's Final Injury Determination was not in conformity with the obligations of the United States under the SCM Agreement. The United States did not appeal this finding, although it appealed other aspects of the panel report. On July 20, 2005, the WTO Dispute Settlement Body (“DSB”) adopted the panel report, as modified by the Appellate Body.

After following the preliminary procedures required under section 129 of the Uruguay Round Agreements Act (“URAA”), by letter dated October 7, 2005, the United States Trade Representative (“USTR”) requested that the Commission issue a determination under section 129(a)(4) of the URAA that would render the Commission's action in the DRAMS investigation not inconsistent with the recommendations and rulings of the DSB. In February 2006, the Commission issued such a determination, elaborating upon and clarifying the one aspect of the Final Injury Determination found to be WTO-inconsistent, and continued to determine that the U.S. industry producing DRAMS and DRAM modules was materially injured by reason of subsidized imports from Korea. DRAMS and DRAM Modules from Korea, Inv. No. 701-TA-431 (Sec. 129), USITC Pub. 3839 (Feb. 2006).

USTR reviewed the Commission's determination under section 129 of the URAA and consulted with the Congressional committees as provided in section 129(a)(5) of the URAA. By letter dated March 1, 2006, USTR notified the Department of the Commission's determination and requested that it be implemented.

Amendment to Countervailing Duty Order on Dynamic Random Access Memory Semiconductors From the Republic of Korea

As described above, by letter dated March 1, 2006, USTR notified the Department that the Commission has issued a determination pursuant to section 129 of the URAA, that renders the Commission's Final Injury Determination, under section 705(b) of the Tariff Act of 1930, as amended, consistent with the recommendations and rulings of the DSB. In its section 129 determination the Commission continued to find that the domestic industry producing DRAMS and DRAM modules was materially injured by reason of subsidized imports from Korea. Also, pursuant to section 129 of the URAA, USTR requested that the Department implement the Commission's determination.

Consequently, the Department hereby amends the countervailing duty order on DRAMS from Korea to reflect the issuance and implementation of the above-referenced determination under section 129 of the URAA.

Dated: March 2, 2006.
David M. Spooner,
Assistant Secretary for Import Administration.

[FR Doc. E6-3298 Filed 3-7-06; 8:45 am]

BILLING CODE 3510-DS-S